LEGAL SERVICES CORPORATION

Notice of Solicitation of Proposals for Calendar Year 2019 Basic Field Grant Awards

AGENCY: Legal Services Corporation.

ACTION: Solicitation for proposals for the provision of civil legal services.

SUMMARY: The Legal Services Corporation (LSC) is a federally established and funded organization that funds civil legal aid organizations across the country and in the U.S. territories. Its mission is to expand access to justice by funding high-quality legal representation for low-income people in civil matters.

In anticipation of a congressional appropriation to LSC for Fiscal Year 2019, LSC hereby announces the availability of funds for grants to be made in calendar year 2019 and is soliciting grant proposals from interested parties who are qualified to provide effective, efficient, and high-quality civil legal services to eligible clients in the service area(s) of the states and territories identified below. The availability and the exact amount of congressionally appropriated funds, as well as the date, terms, and conditions of funds available for grants for calendar year 2019, have not been determined.

DATES: See SUPPLEMENTARY INFORMATION section for grant application dates.

ADDRESSES: Legal Services Corporation—Notice of Funds Availability, 3333 K Street NW, Third Floor, Washington, DC 20007-3522.

FOR FURTHER INFORMATION CONTACT: Reginald Haley, Office of Program Performance, (202) 295-1545, lscgrants@lsc.gov; or visit the LSC website at https://www.lsc.gov/grants-grantee-resources.

SUPPLEMENTARY INFORMATION: Applicants must file a Notice of Intent to Compete (NIC) to participate in the LSC grants process. Applicants must file the NIC by May 4, 2018, 5:00 p.m. E.D.T. The Request for Proposals (RFP), which contains the NIC and grant proposal guidelines, proposal content requirements, service area descriptions, and selection criteria, will be available on or around the week of April 9, 2018. In addition to submitting the grant proposal, applicants for basic field grant awards must also respond to the LSC Fiscal Grantee Funding Application (FGFA). The FGFA will also be available on or around the week of April 9, 2018. The RFP and the FGFA may be accessed at http://www.lsc.gov/grants-grantee-resources/our-grant-programs/basic-field-grant. Other key dates in the LSC 2019 basic field grants process, including the deadlines for filing the grant proposals and the FGFA are published at http://www.lsc.gov/grants-grantee-resources/our-grant-programs/basic-field-grant/basic-field-grant-key-dates.

LSC is seeking proposals from: (1) Non-profit organizations that have as a purpose the provision of legal assistance to eligible clients; (2) private attorneys; (3) groups of private attorneys or law firms; (4) state or local governments; and (5) sub-state regional planning and coordination agencies that are composed of sub-state areas and whose governing boards are controlled by locally elected officials.

The service areas for which LSC is requesting grant proposals are listed below. Service area descriptions are available at http://www.grants.lsc.gov/grants-grantee-resources/our-grant-programs/basic-field-grant/lsc-service-areas. LSC will post all updates and/or changes to this notice at http://www.lsc.gov/grants-grantee-resources/our-grant-programs/basic-field-grant. Interested parties are asked to visit http://www.lsc.gov/grants-grantee-resources/our-grant-programs/basic-field-grant regularly for updates on the LSC grants process.

State or territory | Service area(s)
Alabama | AL-4.
American Samoa | AS-1.
Arizona | AZ-2, NAZ-5.
California | CA-2, CA-19, CA-26, CA-29, CA-30.
Colorado | CO-6, MCO, NCO-1.
Delaware | MDE.
Florida | FL-5, FL-13, FL-14, FL-15, FL-16, FL-17, FL-18, MFL.
Georgia | GA-1 GA-2, MGA.
Hawaii | HI-1, NHI-1.
Illinois | IL-6, MIL.
Indiana | IN-5, MIN.
Louisiana | LA-15.
Maryland | MD-1, MMD.
Massachusetts | MA-12.
Minnesota | MN-1.
Mississippi | MS-9, MS-10, NMS-1.
Missouri | MO-3, MO-7, MMO.
Montana | MT-1, MMT, NMT-1.
New Jersey | NJ-8.
New Mexico | NM-1, NNM-2.
New York | NY-7, NY-20, NY-21, NY-22, NY-23, NY-24, MNY.
North Carolina | NC-5, MNC, NNC-1.
North Dakota | ND-3, NND-3.
Oklahoma | OK-3, MOK.
Pennsylvania | PA-1, PA-8, PA-11, PA-23, PA-26, MPA.
Puerto Rico | PR-1, MPR.
South Carolina | SC-8, MSC.
South Dakota | SD-4, NSD-1.
Texas | TX-14.
Wyoming | WY-4, NWY-1.

Dated: March 5, 2018.
Stefanie K. Davis,
Assistant General Counsel.

[FR Doc. 2018-04724 Filed 3-8-18; 8:45 am]

BILLING CODE 7050-01-P